DEPARTMENT OF TRANSPORTATION

Federal Aviation Administration

Proposed Notification Regarding Function and Reliability Testing for Turbofan-Powered Airplanes of 6,000 Pounds or Less Maximum Certificated Weight

AGENCY: Federal Aviation Administration (FAA), DOT.

ACTION: Notice of intent and request for comments.

SUMMARY: All new certification projects for turbofan-powered airplanes of 6,000 pounds or less maximum certificated weight will be reviewed for possible issuance of special conditions to require function and reliability testing. The special condition, if required, would effectively require compliance with the requirements of 14 CFR part 21, section 21.35, paragraphs (b)(2) and (f), and would be issued under the procedural rules found in 14 CFR part 11. Such a special condition will not be applied to any ongoing, active certification project with an established certification basis.

DATES: Send comments by March 4, 2004.

ADDRESSES: Send all comments to Mr. Steve Thompson, Small Airplane Directorate (ACE-112), Federal Aviation Administration, 901 Locust, Room 301, Kansas City, Missouri 64106. Comments may also be sent by electronic mail to steven.thompson@faa.gov. Comments may be inspected at the above address between 7:30 a.m. and 4 p.m. weekdays, except Federal holidays.

FOR FURTHER INFORMATION CONTACT: Mr. Steve Thompson, Small Airplane Directorate (ACE-112), Federal Aviation Administration, 901 Locust, Room 301, Kansas City, Missouri 64106; telephone (816) 329-4126, fax (816) 329-4090.

SUPPLEMENTARY INFORMATION:

Comments Invited

We invite your comments on this notice. Send any data or views about the subject of this notice, as desired. Identify comments with “Small Jets Function and Reliability Comments, ATTN: Steve Thompson.” The FAA will consider all comments received by the closing date listed above before issuing a final notice.

Background

Before Amendment 3-4, Section 3.19 of Civil Air Regulation (CAR) part 3 required service tests of all airplanes type certificated on or after May 15, 1947. The purpose of these tests was to “ascertain whether there is reasonable assurance that the airplane, its components, and equipment are reliable and function properly.”

Amendment 3-4 to CAR part 3 became effective January 15, 1951, and deleted the service test requirement in Section 3.19 for airplanes of 6,000 pounds maximum weight or less. The introductory text published in Amendment 3-4 explained that most of the significant changes in the amendment stemmed from “the desire for simplification of the rules in this part with respect to the smaller airplanes, specifically those of 6,000 pounds maximum weight or less, which would be expected to be used mainly as personal airplanes.” The introductory material also stated the service test requirement was removed for airplanes of 6,000 pounds maximum weight or less because “experience seems to indicate that this rule imposes a burden upon the manufacturers not commensurate with the safety gained.” The requirement for function and reliability testing, and the exception for airplanes of 6,000 pounds or less maximum weight, is now found in 14 CFR part 21, section 21.35(b)(2).

The decision to except airplanes of 6,000 pounds maximum weight or less from function and reliability testing was based on the state of technology envisaged in 1951. At that time, airplanes of 6,000 pounds maximum weight or less were expected to be used mainly as personal airplanes. The safety gained by requiring function and reliability testing for these airplanes did not warrant the associated added burden on the manufacturers. However, advances in technology have made possible creating turbofan-powered airplanes weighing less than 6,000 pounds that have complexity and design features not envisaged in 1951. These airplanes may also incorporate turbine engines of a type not previously used in a type-certificated aircraft. Because of their capabilities, these airplanes are viable business and commercial transportation and are not expected to be used mainly as personal airplanes. Therefore, a special condition to require function and reliability testing for turbofan-powered airplanes weighing 6,000 pounds or less may be needed to establish safety equivalent to that established by the existing airworthiness standards.

Issued in Kansas City, Missouri, on January 13, 2004.
Dorenda D. Baker,
Manager, Small Airplane Directorate, Aircraft Certification Service.

[FR Doc. 04-2195 Filed 2-2-04; 8:45 am]

BILLING CODE 4910-13-P